DEPARTMENT OF TRANSPORTATION

Federal Aviation Administration

14 CFR Parts 117, 119, and 121

[Docket No. FAA-2009-1093; Amdt. Nos. 117-1, 119-16, 121-357]

RIN 2120-AJ58

Flightcrew Member Duty and Rest Requirements; Technical Correction

AGENCY: Federal Aviation Administration, DOT.

ACTION: Final rule; technical correction.

SUMMARY: The FAA is correcting the effective date of a final rule correction for flightcrew member duty and rest requirements published on February 6, 2013, that required technical corrections in the codified text of the final flightcrew member duty and rest rule. The correct effective date of the rule should read January 4, 2014.

DATES: Effective date: The effective date of a final rule correction published in the Federal Register of February 6, 2013 (78 FR 8361), is corrected from January 14, 2014, to January 4, 2014.

FOR FURTHER INFORMATION CONTACT: For technical questions concerning this action, contact Dale E. Roberts, AFS-200, Flight Standards Service, Air Transportation Division Federal Aviation Administration, 800 Independence Avenue SW., Washington, DC 20591; telephone (202) 267-5749; email dale.e.roberts@faa.gov.

For legal questions concerning this action, contact Robert Frenzel, AGC-220, Office of Chief Counsel, Regulations Division, Federal Aviation Administration, 800 Independence Avenue SW., Washington, DC 20591; telephone (202) 267-3073; email: robert.frenzel@faa.gov.

SUPPLEMENTARY INFORMATION:

Background

On January 4, 2012, the FAA published a final rule entitled “Flightcrew Member Duty and Rest Requirements” (77 FR 330). In that rule, the FAA created a new part, part 117, which replaced the then-existing flight, duty, and rest regulations for part 121 passenger operations. As part of this rulemaking, the FAA also applied the new part 117 to certain part 91 operations, and it permitted all-cargo operations operating under part 121 to voluntarily opt into the part 117 flight, duty, and rest regulations.

Subsequent to publication, the FAA discovered several issues requiring a technical correction in the regulatory text of the rule and published a final rule, technical correction on February 6, 2013 (78 FR 8361). The FAA realized that the effective date in this rule was inadvertently changed from January 4, 2014, to January 14, 2014.

This technical correction changes the effective date to January 4, 2014.

Issued in Washington, DC, on February 11, 2013.
Mark W. Bury,
Acting Assistant Chief Counsel for International Law, Legislation, and Regulations.

[FR Doc. 2013-03559 Filed 2-14-13; 8:45 am]

BILLING CODE 4910-13-P